FARM CREDIT ADMINISTRATION

Privacy Act of 1974; Altering a System of Records

AGENCY: Farm Credit Administration.

ACTION: Notice of altering a system of records maintained on individuals; request for comments.

SUMMARY: Pursuant to the provisions of the Privacy Act of 1974, as amended (5 U.S.C. 552a), notice is hereby given that the Farm Credit Administration (FCA) is publishing an amended system notice, which indicates that the agency is now maintaining information on employees' health savings accounts.

DATES: Effective Date: You may send written comments on or before October 19, 2009. The FCA filed an amended System Report with Congress and the Office of Management and Budget on August 21, 2009. This notice will become effective without further publication on October 27, 2009 unless modified by a subsequent notice to incorporate comments received from the public.

ADDRESSES: We offer a variety of methods for you to submit your comments. For accuracy and efficiency reasons, commenters are encouraged to submit comments by e-mail or through the FCA's Web site. As facsimiles (fax) are difficult for us to process and achieve compliance with section 508 of the Rehabilitation Act, we are no longer accepting comments submitted by fax. Regardless of the method you use, please do not submit your comment multiple times via different methods. You may submit comments by any of the following methods:

• E-mail: Send us an e-mail at reg-comm@fca.gov.

• FCA Web site: http://www.fca.gov. Select “Public Commenters,” then “Public Comments,” and follow the directions for “Submitting a Comment.”

• Federal eRulemaking Portal: http://www.regulations.gov. Follow the instructions for submitting comments.

• Mail: Jane Virga, Acting Privacy Act Officer, Farm Credit Administration, 1501 Farm Credit Drive, McLean, VA 22102-5090.

You may review copies of comments we receive at our office in McLean, Virginia, or from our Web site at http://www.fca.gov. Once you are in the Web site, select “Public Commenters,” then “Public Comments,” and follow the directions for “Reading Submitted Public Comments.” We will show your comments as submitted but, for technical reasons, we may omit items such as logos and special characters. Identifying information that you provide, such as phone numbers and addresses, will be publicly available. However, we will attempt to remove e-mail addresses to help reduce Internet spam.

FOR FURTHER INFORMATION CONTACT: Jane Virga, Acting Privacy Act Officer, Farm Credit Administration, McLean, Virginia 22102-5090, (703) 883-4019, TTY (703) 883-4020.

SUPPLEMENTARY INFORMATION: This publication satisfies the requirement of the Privacy Act of 1974 that agencies publish a system of records notice in the Federal Register when there is a revision, change, or addition to the system of records. The notice reflects designated points of contact for inquiring about the system, accessing the records, and requesting amendments to the records.

The amended system of records is: FCA-1, Employee Attendance, Leave, and Payroll Records—FCA. As required by 5 U.S.C. 552a(r) of the Privacy Act, as amended, the FCA has sent notice of this proposed system of records to the Office of Management and Budget, the Committee on Oversight and Government Reform of the House of Representatives, and the Committee on Homeland Security and Governmental Affairs of the Senate. The notice is published in its entirety below.

FCA-1

SYSTEM NAME:

Employee Attendance, Leave, and Payroll Records—FCA.

SECURITY CLASSIFICATION:

None.

SYSTEM LOCATION:

Farm Credit Administration, 1501 Farm Credit Drive, McLean, VA 22102-5090 and field offices listed in Appendix A.

CATEGORIES OF INDIVIDUALS COVERED BY THE SYSTEM:

Current and former FCA employees.

CATEGORIES OF RECORDS IN THE SYSTEM:

This system contains paper, electronic, and microfiche files containing payroll-related information for FCA employees reported on a biweekly, year-to-date, and, in some cases, annual basis. It includes the “Agency Time Tracking System,” payroll and leave data for each employee including rate and amount of pay, hours worked, tax and retirement deductions, leave bank records, life insurance and health insurance deductions, savings allotments, savings bond and charity deductions, health savings accounts, other financial deductions, mailing addresses, and home addresses. The National Finance Center's U.S. Department of Agriculture Personnel Payroll System provides agency payroll services.

AUTHORITY FOR MAINTENANCE OF THE SYSTEM:

12 U.S.C. 2243, 2252.

PURPOSES:

We may use information in this record system to prepare payroll, to meet Government payroll recordkeeping and reporting requirements, prepare reports, and to retrieve and supply payroll and leave information as required for Agency needs.

ROUTINE USES OF RECORDS MAINTAINED IN THE SYSTEM, INCLUDING CATEGORIES OF USERS AND THE PURPOSES OF SUCH USES:

We may disclose information in this system of records to other Government agencies, commercial or credit organizations, or to prospective employers to verify employment.

We may disclose information in this system of records to Federal, State, and local taxing authorities concerning compensation to employees or to contractors; to the Office of Personnel Management, Department of the Treasury, Department of Labor, and other Federal agencies concerning pay, benefits, and retirement of employees; to Federal employees' health benefits carriers concerning health insurance of employees; to financial organizations concerning employee savings account allotments and net pay to checking accounts; to State human resource offices administering unemployment compensation programs; to educational and training organizations concerning employee qualifications and identity for specific courses; and to heirs, executors, and legal representatives of beneficiaries.

We may disclose information in this system of records to the Office of Child Support Enforcement, Administration for Children and Families, Department of Health and Human Services, Federal Parent Locator System (FPLS), and Federal Tax Offset System for use in locating individuals and identifying their income sources, to establish paternity, establish and modify orders of support, and for enforcement actions.

We may disclose information in this system of records to the Office of Child Support Enforcement for release to the Social Security Administration for verifying Social Security numbers in connection with the operation of the FPLS by the Office of Child Support Enforcement.

We may disclose information in this system of records to the Office of Child Support Enforcement for release to the Department of the Treasury to administer the Earned Income Tax Credit Program (section 32, Internal Revenue Code of 1986) and to verify a claim with respect to employment in a tax return.

Additional routine uses are listed in the “General Statement of Routine Uses.”

DISCLOSURE TO CONSUMER REPORTING AGENCIES:

We may disclose information from this system, under 5 U.S.C. 552a(b)(12), to consumer reporting agencies as defined in the Fair Credit Reporting Act, 15 U.S.C. 1681a(f), or the Federal Claims Collection Act of 1966, as amended, 31 U.S.C. 3701(a)(3), in accordance with 31 U.S.C. 3711(f).

POLICIES AND PRACTICES FOR STORING, RETRIEVING, ACCESSING, RETAINING, AND DISPOSING OF RECORDS IN THE SYSTEM:

STORAGE:

We maintain records in file folders or on a computerized database.

RETRIEVABILITY:

Retrievable by name or Social Security number.

SAFEGUARDS:

Access is limited to those whose official duties require access. File cabinets and rooms are locked during non-duty hours. Computers are protected by firewalls and passwords.

RETENTION AND DISPOSAL:

In accordance with National Archives and Records Administration General Records schedule requirements.

SYSTEM MANAGER(S) AND ADDRESS:

Director, Office of Management Services, Farm Credit Administration, McLean, VA 22102-5090.

NOTIFICATION PROCEDURE:

Direct all inquiries about this system of records to: Privacy Act Officer, Farm Credit Administration, McLean, VA 22102-5090.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

RECORD SOURCE CATEGORIES:

Information in this system of records either comes from the individual to whom it applies or comes from information supplied by Agency officials. FCA employee on whom the record is maintained. FCA employees who approve the records.

EXEMPTIONS CLAIMED FOR THE SYSTEM:

None.

Dated: September 11, 2009.
Roland E. Smith,
Secretary, Farm Credit Administration Board.

[FR Doc. E9-22361 Filed 9-16-09; 8:45 am]

BILLING CODE 6705-01-P